DEPARTMENT OF HEALTH AND HUMAN SERVICES

Centers for Disease Control and Prevention

[Program Announcement 04110]

Addressing Emerging Infectious Diseases in Bangladesh; Notice of Intent To Fund Single Eligibility Award

A. Purpose

The Centers for Disease Control and Prevention (CDC) announces the intent to fund fiscal year (FY) 2004 funds for a cooperative agreement program to strengthen the capacity in Bangladesh to detect and evaluate emerging infectious diseases and to evaluate new vaccines and other interventions that may offer approaches toward their prevention. The Catalog of Federal Domestic Assistance number for this program is 93.283.

B. Eligible Applicant

Assistance will be provided only to the International Centre for Diarrhoeal Disease Research, Bangladesh (ICDDR,B). Eligibility is limited to ICDDR,B because:

• Activities to be supported under this program include both new projects and follow-on of projects previously conducted at ICDDR,B that are dependent upon established ICDDR,B surveillance systems in special populations in Bangladesh, including in an urban slum area (Kamalapur), rural sites (Abhoynagar and Mirsarai), and a network of hospitals and health centers. No other organization has access to these surveillance systems and so only ICDDR,B can conduct the activities.

• ICDDR,B is the only known institution in Bangladesh which possesses the scientific and management capability to meet program requirements without jeopardizing or compromising the quality of the research and other activities. ICDDR,B was established in 1978 and includes a mix of national and international staff, including public health scientists, laboratory scientists, clinicians, epidemiologists, information technology professionals, and experts in emerging infectious diseases and vaccine sciences, etc. ICDDR,B collaborates with the Bangladesh Ministry of Health, universities, community groups, private industry, U.S. governmental institutions (e.g., USAID), governments of other countries, and others to study and address infectious disease health problems in Bangladesh and the surrounding region, leading to solutions that can be applied in developing countries worldwide.

• ICDDR,B offers special opportunities for furthering research, surveillance, and prevention and control programs in Bangladesh through the use of unusual talent resources and access to established unique study populations in areas with appropriate environmental conditions for studying the diseases of interest in this program. ICDDR,B has established multiple field sites and surveillance systems in Bangladesh that are critical for carrying out research and other activities addressing emerging infectious diseases.

• ICDDR,B is conveniently located in Dhaka and has adequate space, including office space, laboratories, meeting space, and capacity to expand to accommodate additional staff.

• ICDDR,B has a multiple project assurance, has mechanisms in place for local ethical review of research proposals (for multi-site studies), and has a recognized Institutional Review Board. This further defines their knowledge and capabilities in research.

C. Funding

Approximately $250,000 is available in FY 2004 to fund this award. It is expected that the award will begin on or before August 1, 2004 and will be made for a 12-month budget period within a project period of up to five years. Funding estimates may change.

D. Where To Obtain Additional Information

For general comments or questions about this announcement, contact: Technical Information Management, CDC Procurement and Grants Office, 2920 Brandywine Road, Atlanta, GA 30341-4146, Telephone 770-488-2700.

For technical questions about this program, contact: Greg Jones, Extramural Project Officer, National Center for Infectious Diseases, Centers for Disease Control and Prevention, 1600 Clifton Road, NE., Mailstop C-19, Telephone: 404-639-4180, E-mail: gjj1@cdc.gov.

William P. Nichols,
Acting Director, Procurement and Grants Office, Centers for Disease Control and Prevention.

[FR Doc. 04-10537 Filed 5-7-04; 8:45 am]

BILLING CODE 4163-18-P